DEPARTMENT OF HOMELAND SECURITY

Coast Guard

[Docket No. USCG-2013-0702]

Great Lakes Pilotage Advisory Committee; Vacancies

AGENCY: Coast Guard, DHS.

ACTION: Request for applications.

SUMMARY: The Coast Guard seeks applications for membership on the Great Lakes Pilotage Advisory Committee (GLPAC). The GLPAC provides advice and makes recommendations to the Secretary of Homeland Security and the Coast Guard on matters relating to Great Lakes pilotage, including review of proposed Great Lakes pilotage regulations and policies.

DATES: Applicants must submit a cover letter and resume in time to reach Mr. David Dean, the Alternate Designated Federal Officer (ADFO) on or before September 1, 2013.

ADDRESSES: Send your cover letter and resume indicating the membership category for which you are applying via one of the following methods:

• Email: David.J.Dean@uscg.mil.

• Fax: (202) 372-1909 ATTN: Mr. David Dean, GLPAC ADFO.

• Mail: Mr. David Dean, GLPAC ADFO, Commandant (CG-WWM-2), U.S. Coast Guard Headquarters, 2100 Second Street SW., Stop 7580, Washington, DC 20593-7580.

FOR FURTHER INFORMATION CONTACT: Mr. David Dean, GLPAC ADFO, Commandant (CG-WWM-2), U.S. Coast Guard Headquarters, 2100 Second Street SW., Stop 7580, Washington, DC 20593-7580; telephone 202-372-1533, fax 202-372-1914, or email at David.J.Dean@uscg.mil.

SUPPLEMENTARY INFORMATION: The GLPAC is an advisory committee established in accordance with the provisions of the Federal Advisory Committee Act (FACA) 5 U.S.C. (Pub. L. 92-463) and under the authority of 46 U.S.C. 9307, as amended. GLPAC expects to meet once per year but may also meet at other times at the call of the Secretary. Further information about GLPAC is available by going to the Web site: https://www.facadatabase.gov. Click on the search tab and type “Great Lakes” into the search form. Then select “Great Lakes Pilotage Advisory Committee” from the list.

The Committee consists of seven members appointed by and serving at the pleasure of the Secretary of Homeland Security upon recommendation by the Coast Guard Commandant. To be eligible, applicants should have particular expertise, knowledge, and experience regarding the regulations and policies on the pilotage of vessels on the Great Lakes, and at least 5 years of practical experience in maritime operations.

We will consider applicants for two positions that expire or become vacant on September 30, 2013.

• One member representing the interests of Great Lakes ports.

• One member representing the interests of shippers whose cargoes are transported through Great Lakes ports.

Members shall serve terms of office of up to three years and may be reappointed. All members serve at their own expense but may receive reimbursement for travel and per diem from the Federal Government.

Registered lobbyists are not eligible to serve on Federal Advisory Committees. Registered lobbyists are lobbyists required to comply with provisions contained in the Lobbying Disclosure Act, Title 2, United States Code, Section 1603.

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

To visit our online docket, go to http://www.regulations.gov enter the docket number for this notice (USCG-2013-0702) in the Search box, and click “Search”. Please do not post your resume on this site. Note, during the vetting process, applicants may be asked to provide date of birth and social security number.

Dated: August 9, 2013.
Mike M. Sollosi,
Acting Director, Marine Transportation Systems, U.S. Coast Guard.

[FR Doc. 2013-19742 Filed 8-13-13; 8:45 am]

BILLING CODE 9110-04-P